ENVIRONMENTAL PROTECTION AGENCY

40 CFR Part 98

Mandatory Greenhouse Gas Reporting

CFR Correction

In Title 40 of the Code of Federal Regulations, Parts 96 to 99, revised as of July 1, 2013, on page 765, in § 98.226, paragraph (c) is reinstated to read as follows:

§ 98.226 Data reporting requirements.

* * * * *

(c) Annual nitric acid production from each nitric acid train (tons, 100 percent acid basis).

* * * * *

[FR Doc. 2014-25390 Filed 10-23-14; 8:45 am]

BILLING CODE 1505-01-D